DEPARTMENT OF HOUSING AND URBAN DEVELOPMENT

[Docket No. FR-5487-N-15]

Notice of Proposed Information Collection for Public Comment; Moving To Work Demonstration

AGENCY: Office of the Assistant Secretary for Public and Indian Housing, HUD.

ACTION: Notice of proposed information collection.

SUMMARY: The proposed information collection requirement described below will be submitted to the Office of Management and Budget (OMB) for review, as required by the Paperwork Reduction Act. The Department is soliciting public comments on the subject proposal.

DATES: Comments Due Date: July 15, 2011.

ADDRESSES: Interested persons are invited to submit comments regarding this proposal. Comments should refer to the proposal by name/or OMB Control number and should be sent to: Colette Pollard, Departmental Reports Management Officer, QDAM, Department of Housing and Urban Development, 451 7th Street, SW., Room 4160, Washington, DC 20410-5000; telephone 202.402.3400 (this is not a toll-free number) or e-mail Ms. Pollard at Colette_Pollard@hud.gov. Persons with hearing or speech impairments may access this number through TTY by calling the toll-free Federal Information Relay Service at (800) 877-8339. (Other than the HUD USER information line and TTY numbers, telephone numbers are not toll-free.)

FOR FURTHER INFORMATION CONTACT: Arlette Mussington, Office of Policy, Programs and Legislative Initiatives, PIH, Department of Housing and Urban Development, 451 7th Street, SW., (L'Enfant Plaza, Room 2206), Washington, DC 20410; telephone 202-402-4109, (this is not a toll-free number).

SUPPLEMENTARY INFORMATION: The Department will submit the proposed information collection to OMB for review, as required by the Paperwork Reduction Act of 1995 (44 U.S.C. chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Moving to Work Demonstration.

OMB Control Number: 2577-0216.

Description of the need for the information and proposed use. The MTW Demonstration was authorized under Section 204 of the Omnibus Consolidated Rescissions and Appropriations Act of 1996 (Pub. L. 104-134, 110 Stat 1321), dated April 26, 1996. The MTW Demonstration initially permitted up to 30 PHAs to participate in the demonstration program. Nineteen PHAs were selected for participation in the MTW demonstration in response to a HUD Notice published in the Federal Register on December 18, 1996 and five of the 30 slots were filled through the Jobs-Plus Community Response Initiative. The 2009 and 2010 appropriations allowed HUD to add six additional PHA to participate in the MTW Demonstration. As part of HUD's 2009 budget appropriation (Section 236, title II, division I of the Omnibus Appropriations Act, 2009, enacted March 11, 2009), Congress directed HUD to add three agencies to the MTW program. As part of HUD's 2010 budget appropriation (Section 232, title II, division A of the Consolidated Appropriations Act, 2010, enacted December 16, 2009), Congress authorized HUD to add three agencies to the MTW demonstration.

All public housing authorities (PHA) are required to submit a five (5) year plan and annual plans as stated in Section 5A of the 1937 Act, as amended; however, for PHAs with specific types of Moving to Work (MTW) demonstration agreements (33 at the time of submission of this request) the MTW annual plan and annual report are submitted in lieu of the standard annual and 5 year PHA plans.

Revisions are being made to the 50900 form to streamline the Plan and Report submission process to increase the accuracy of data collection for the demonstration. Further, the form has been revised so that the respondents are not asked to provide duplicated information to the Department.

Agency form number, if applicable: HUD-50900.

Members of affected public: Public housing agencies that participate in the Moving to Work demonstration.

Estimation of the total number of hours needed to prepare the information collection including number of respondents: The estimated number of respondents is 36 PHAs that submit annual MTW Plans and Reports. The total reporting burden is 4,320 hours.

Status of the proposed information collection: Revision to currently approved collection.

Authority: Section 3506 of the Paperwork Reduction Act of 1995, 44 U.S.C. chapter 35, as amended.

Dated: May 3, 2011.
Merrie Nichols-Dixon,
Deputy Director for Office of Policy, Programs, and Legislative Initiatives.

[FR Doc. 2011-12000 Filed 5-13-11; 8:45 am]

BILLING CODE 4210-67-P